POSTAL SERVICE

39 CFR Part 111

Express Mail Next Day Delivery Postage Refund Amendment

AGENCY: Postal Service™.

ACTION: Final rule.

SUMMARY: The Postal Service is revising the Mailing Standards of the United States Postal Service, Domestic Mail Manual (DMM®) 114.2, 414.3, and 604.9, to state the conditions for Express Mail® Next Day Delivery postage refunds when shipments are mailed each year during the time period of December 22 through December 25.

DATES: Effective Date: August 2, 2010.

FOR FURTHER INFORMATION CONTACT: Karen Key (202) 268-7492 or Carol A. Lunkins (202) 268-7262.

SUPPLEMENTARY INFORMATION:

On April 30, 2010, the Postal Service published a Federal Register proposed rule (75 FR 22725-22727) inviting comments on our proposal to revise the standards for Express Mail Next Day Delivery postage refunds during the time period of December 22 through December 25. When items are made available for pickup at the destination office, attempted for delivery, or delivered within two business days, postage refunds will not be available for Express Mail Next Day Delivery during this period. However, when items are not available for customer pickup at the destination office or delivery to the addressee was not attempted within two business days, Express Mail Next Day Delivery postage refunds will be authorized.

There were no comments received regarding this proposed revision.

The Postal Service adopts the following changes to the Mailing Standards of the United States Postal Service, Domestic Mail Manual (DMM), which is incorporated by reference in the Code of Federal Regulations. See 39 CFR part 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

100 Retail Letters, Cards, Flats, and Parcels

* * * * *

110 Express Mail

* * * * *

114 Postage Payment Methods

* * * * *

2.0 Postage Refunds

[Delete the heading of 2.1 in its entirety and incorporate the introductory paragraph and remaining text into 2.0 as follows:]

Postage refunds may not be available if delivery was attempted within the times required for the specific service, or for any of the following reasons:

[Revise items a, b, and c of former 2.1, and add new items d through h as follows:]

a. The item was properly detained for law enforcement purposes.

b. The item was delayed due to strike or work stoppage.

c. The item was delayed because of an incorrect ZIP Code or address; forwarding or return service was provided after the item was made available for claim.

d. The shipment is available for delivery, but the addressee made a written request, i.e. Hold Mail request, that the shipment be held for a specific day(s).

e. The delivery employee discovers that the shipment is undeliverable as addressed before leaving on the delivery route.

f. If authorized by USPS Headquarters, and the delay was caused by governmental action beyond the control of USPS or air carriers; war, insurrection, or civil disturbance; delay or cancellation of flights; projected or scheduled transportation delays; breakdown of a substantial portion of USPS transportation network resulting from events or factors outside the control of USPS; or acts of God.

g. The shipment contained live animals and was delivered or delivery was attempted within 3 days of the date of mailing.

h. The Express Mail Next Day shipment was mailed December 22 through December 25 and was delivered or delivery was attempted within 2 business days of the date of mailing.

* * * * *

400 Commercial Parcels

* * * * *

410 Express Mail

* * * * *

414 Postage Payment and Documentation

* * * * *

3.0 Postage Refunds

Postage refunds may not be available if delivery was attempted within the times required for the specific service, or for any of the following reasons:

[Revise items a, b, and c of 3.0 and add new items “d through h” as follows:]

a. The item was properly detained for law enforcement purposes.

b. The item was delayed due to strike or work stoppage.

c. The item was delayed because of an incorrect ZIP Code or address; forwarding or return service was provided after the item was made available for claim.

d. The shipment is available for delivery, but the addressee made a written request, i.e. Hold Mail request, that the shipment be held for a specific day(s).

e. The delivery employee discovers that the shipment is undeliverable as addressed before leaving on the delivery route.

f. If authorized by USPS Headquarters, and the delay was caused by governmental action beyond the control of USPS or air carriers; war, insurrection, or civil disturbance; delay or cancellation of flights; projected or scheduled transportation delays; breakdown of a substantial portion of USPS transportation network resulting from events or factors outside the control of USPS; or acts of God.

g. The shipment contained live animals and was delivered or delivery was attempted within 3 days of the date of mailing.

h. The Express Mail Next Day shipment was mailed December 22 through December 25 and was delivered or delivery was attempted within 2 business days of the date of mailing.

* * * * *

600 Basic Standards for All Mailing Services

* * * * *

604 Postage Payment Methods

* * * * *

9.0 Refunds and Exchanges

* * * * *

9.5 Express Mail Postage Refund

* * * * *

9.5.2 Conditions for Refund

[Revise the introductory paragraph of 9.5.2 as follows:]

A refund request must be made within 90 days after the date of mailing. Except as provided in 114.2.1 and 414.3.1, a mailer may file for a postage refund only under one of the following circumstances:

* * * * *

9.5.3 Refunds Not Given

[Revise 9.5.3 as follows:]

A postage refund will not be given if the guaranteed service was not provided due to any of the circumstances in 114.2.1 and 414.3.1.

* * * * *

We will publish an amendment to 39 CFR part 111 to reflect these changes.

Stanley F. Mires,
Chief Counsel, Legislative.

[FR Doc. 2010-15336 Filed 6-25-10; 8:45 am]

BILLING CODE 7710-12-P